DEPARTMENT OF AGRICULTURE

Forest Service

Interior Wetlands Environmental Impact Statement; Hiawatha National Forest, Chippewa County, MI

AGENCY: Forest Service, USDA.

ACTION: Notice of intent to prepare an Environmental Impact Statement.

SUMMARY: The Forest Service will prepare an Environmental Impact Statement (EIS) to analyze and disclose the environmental impacts of proposed land management activities, and corresponding alternatives, within the Interior Wetlands project area. The project is located on the Sault Ste. Marie Ranger District, Hiawatha National Forest, Chippewa County, Michigan, approximately 35 miles southwest of Sault Ste. Marie, Michigan. The project area is approximately 30,600 acres and management activities are being proposed on less than 15 percent of the area.

Jack pine stands experience a cyclical outbreak of jack pine budworm. Older trees are more susceptible to defoliation which can lead to mortality and dead tops. In the Interior Wetlands project area much of the jack pine is more than 60 years old. The jack pine in the project area experienced budworm defoliation during the 1991/1992 outbreak and is showing some defoliation during the outbreak that began in 2001. The Forest Service is evaluating the options available to develop a more evenly distributed age-class and to improve the vigor of jack pine stands in order to minimize the impacts of budworm defoliation. In addition to proposing jack pine salvage and regeneration in Interior Wetlands, the Forest Service evaluated some other management opportunities within the entire project area to implement the Hiawatha National Forest Land and Resource Management Plan (Forest Plan, 1986). The proposed action includes salvage and regeneration of jack pine, timber harvesting and regeneration of other species, changes to the transportation system, changes to the old growth system, timber stand improvement projects, and wildlife and fisheries habitat improvement projects.

Overall guidance of land management activities on the Hiawatha National Forest is provided by the Forest Plan. In order to meet the objectives and desired future conditions set forth in the Forest Plan, the following purpose and need has been identified for the Interior Wetlands project area: (1) Reduce the impacts of the jack pine budworm by creating a more evenly distributed age-class structure (which also improves habitat for sandhill crane, merlin, northern harrier, and other species), improving vigor, and increasing growth rates in jack pine stands. (2) Regenerate older aspen and mixed balsam fir/aspen/paper birch stands to maintain these forest types; provide habitat for white-tailed deer, ruffed grouse, snowshoe hare, and other species; improve vigor, and increase growth rates. (3) Regenerate older black spruce stands to improve vigor and to increase growth rates. (4) Remove some trees in some jack pine, aspen, balsam fir/aspen/paper birch, northern hardwoods, paper birch, black spruce, red pine, white pine, and cedar to either concentrate growth on the remaining trees or to provide space for new trees to become established. (5) Provide useable wood products to local markets and improve timber age-class distribution, vigor, and growth rates on merchantable stems to ensure a more even flow of wood products in the future. (6) Prepare areas where jack pine and black spruce are being regenerated by reducing the slash and exposing mineral soil for a seedbed. (7) Manage an efficient transportation system through construction, reconstruction, maintenance, and decommissioning of roads. (8) Improve the quality and survival of some white pine stems damaged by white pine weevil and blister rust. (9) Evaluate stands currently in the old growth system and other stands to determine if there is a different arrangement of stands that could provide better existing old growth characteristics and better placement across the landscape. (10) Adjust wildlife opening system by creating openings or maintaining existing openings by removing woody encroachment to provide habitat for sandhill crane, black bear, ruffed grouse, and other species. (11) Improve fish habitat (primarily brook trout) by adding log bank cover and placing spawning gravel. (12) Design projects and/or develop mitigation measures, as appropriate, to minimize impacts to the resources to acceptable levels defined by laws, regulations, or policies.

A roads analysis for the project area will be conducted in conjunction with the EIS. The roads analysis is not a decision document but is necessary to make an informed decision. At a minimum, the roads analysis will identify: needed and unneeded roads; road associated environmental and public safety risks; site-specific priorities and opportunities for road improvements and decommissioning; areas of special sensitivity, unique resource values, or both; and any other information that may be needed to support project-level decisions. Adjacent landowners, citizens groups, State, local, and Tribal governments, and other Federal agencies are invited to comment on the transportation system.

The Draft Environmental Impact Statement (DEIS) will analyze the direct, indirect, and cumulative environmental effects of the alternatives. Past, present, and projected activities on National Forest system lands will be considered. The DEIS will disclose the analysis of site-specific mitigation measures and their effectiveness. The DEIS is expected to be filed with the EPA and available for public review by November 2002.

DATES: Comments concerning the proposed action and scope of the analysis should be received by January 28, 2002 to receive timely consideration in the DEIS. A public meeting about this project will be held on December 4, 2001 at 6:30 pm.

ADDRESSES: Mail written comments to Stevan J. Christiansen, District Ranger, St. Ignace and Sault Ste. Marie Ranger Districts, 1798 West US-2, St. Ignace, MI 49781. The public meeting for this project will be held at the Trout Lake Town Hall on the main street of Trout Lake (M-123).

FOR FURTHER INFORMATION CONTACT: Martha Sjogren, Team Leader, St. Ignace Ranger District. Phone: (906) 643-7900 ext. 133. Email: msjogren@fs.fed.us.

SUPPLEMENTARY INFORMATION: The information presented in this notice is included to help the reviewer determine if they are interested in or potentially affected by the proposed land management activities. The information in this notice is summarized. Contact the person identified in the For Further Information Contact section to obtain additional information about desired future condition, purpose and need, proposed action, design criteria and/or mitigation measures, and maps. The information packet and color maps are also available at: http://www.fs.fed.us/r9/hiawatha.

The project area is approximately 30,600 acres and is located near the town of Trout Lake, Chippewa County, Michigan. Proposed activities within the project area include portions of the following areas: T44N, R4W, Sections 19, 31; T44N, R5W, Sections 2-11, 13-27, 35, 36; T44N, R6W, Sections 1-18, 21-24; T45N, R5W, Sections 8-10, 15-17, 19-22, 27-33; T45N, R6W, Sections 23, 25, 26, 31, 32, 34-36.

To meet the purpose and need, this project proposes:

1. To salvage (through clearcut harvest) and regenerate approximately 2,216 acres of mature and overmature jack pine.

2. To harvest (clearcut) and regenerate approximately 289 acres of mature and overmature aspen, balsam fir/aspen/paper birch, and black spruce stands.

3. To harvest (clearcut) and regenerate approximately 119 acres of mature black spruce stands.

4. To harvest some trees (partial removal cuts) on approximately 508 acres in jack pine, aspen, balsam fir/aspen/paper birch, northern hardwoods, black spruce, red pine, white pine, and cedar.

5. To harvest (commercially thin) about 148 acres in northern hardwoods and paper birch.

6. Prepare sites for jack pine regeneration by rollerchopping about 1,400 acres and prescribed burning about 400 acres.

7. To adjust the transportation system by: constructing approximately 1.7 miles of classified roads, 1.5 miles of temporary roads on existing unclassified road corridors and then decommission, and 23.1 miles of temporary roads; changing the classification of approximately 2.8 miles from unclassified to classified; performing road maintenance on approximately 7.8 miles of classified roads, and 2.8 miles unclassified roads changed to classified roads; reconstructing approximately 0.1 mile of classified road; and decommissioning approximately 0.3 miles of classified roads and approximately 3.2 miles of unclassified roads.

8. To prune approximately 40 acres of weevil and blister rust damaged white pine saplings.

9. To adjust the old growth system by removing from the existing system about 348 acres with limited existing old growth conditions or in unfavorable locations and adding to the system about 223 acres with some existing old growth conditions or in more favorable locations.

10. To create wildlife openings on about 9 acres and maintain openings on about 157 acres by removing woody encroachment.

11. To improve fish habitat in Biscuit Creek by adding log bank cover along approximately 750 feet and placing 75 square yards of spawning gravel in the stream.

12. To develop design criteria and/or mitigation measures to reduce the impacts of management activities on resources. Specifically, design projects and/or mitigation measures to control road use; protect threatened, endangered and sensitive species; protect plant habitat; protect wildlife and protect and/or improve scenic integrity; protect heritage resources; provide safe snowmobiling in area of timber harvest; provide good seed source jack pine cones; and protect soil and hydrology.

Range of Alternatives

The Forest Service will consider a range of alternatives. One of these will be the “no action” alternative in which none of the proposed activities will be implemented. Additional alternatives will examine varying levels and locations for the proposed activities to achieve the proposal's purposes in response to the issues identified during public involvement.

Preliminary Issues

The public has had several previous opportunities to comment on these proposed actions. The original Interior Wetlands EA (circa 1997) was included in the NEPA quarterly, scoping letters were sent out, and public meetings were held. The public commented again during the 30-day public comment period (April 1999), and when the EA was appealed. In September 2000, the Forest Service released the Revised Interior Wetlands Project Set EA for another 30-day public comment period. From the public comments received from 1997-2000, preliminary issues that may be addressed in this EIS are as follows:

1. There is too much timber harvest proposed in the area, there is too much clearcutting proposed, and other resources (e.g. wildlife, wetlands, soils, and hydrology) would be negatively impacted.

2. There is too much road construction to accommodate the timber harvest, there are too many temporary roads proposed, and other resources (e.g. wildlife, wetlands, soils, and hydrology) would be negatively impacted by the construction and by ineffective closure and obliteration of temporary roads.

3. There is too much focus on providing timber products and not enough focus on restoring the ecosystem to more natural conditions.

Decisions To Be Made

The St. Ignace and Sault Ste. Marie District Ranger will decide the following:

1. Whether or not to salvage and harvest timber and if so, the selection and site-specific location of appropriate timber management practices (silvicultural prescription, logging system, fuels treatment, and reforestation); road construction/reconstruction/maintenance/decommissioning necessary to provide access and protect resources; and appropriate mitigation measures.

2. Whether or not to make adjustments to the old growth system.

3. Whether or not to maintain existing wildlife openings and create new ones.

4. Whether or not to modify fish habitat by adding log bank cover and placing spawning gravel.

5. What, if any, specific project monitoring requirements would be needed to ensure mitigation measures are implemented and effective.

Public Involvement and Scoping

The public is encouraged to attend the public meeting at 6:30 p.m. on December 4, 2001 at the Trout Lake Town Hall. Forest Service officials will be available at that time to present an overview of the purpose and need and proposed action. It is also an opportunity for the public to comment on the project.

Public participation is an important part of the analysis. The public may visit Forest Service officials at any time during the analysis and prior to the decision. Public scoping has been ongoing for the Interior Wetlands project. The Forest Service will be seeking additional information, comments, and assistance from Federal, State, and local agencies, as well as local Native American tribes and other individuals or organizations that may be interested in or affected by the proposed action. This input will be used in preparation of the draft and final EIS. The scoping process will:

Identify potential issues.

Identify issues to be analyzed in depth.

Identify alternatives to the proposed action.

Explore additional alternatives that will be derived from issues recognized during scoping.

Identify potential environmental effects of this project and alternatives (e.g. direct, indirect, and cumulative effects and connected actions).

Estimated Dates for Filing

The DEIS is expected to be filed with the Environmental Protection Agency (EPA) and to be available for public review by November 2002. At that time EPA will publish a Notice of Availability of the DEIS in the Federal Register. The comment period on the DEIS will be 45 days from the date the EPA publishes the Notice of Availability in the Federal Register. It is very important that those interested in the management of this area participate at that time.

The final EIS is scheduled to be completed by February 2003. In the final EIS, the Forest Service is required to respond to comments and responses received during the comment period that pertain to the environmental consequences discussed in the DEIS and to applicable laws, regulations, and policies considered in making a decision regarding the proposal.

Reviewer's Obligations

The Forest Service believes it is important to give reviewers notice of several court rulings related to public participation in the environmental review process. First, reviewers of draft environmental impact statements must structure their participation in the environmental review of the proposal so that it is meaningful and alerts the agency to the reviewer's position and contentions. Vermont Yankee Nuclear Power Corp v. NRDC, 435 U.S. 519, 553 (1978). Also, environmental objections that could be raised at the draft environmental impact statement stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider and respond to them in the final EIS.

To be most helpful, comments on the DEIS should be as specific as possible and may address the adequacy of the statement or the merit of the alternatives discussed. Reviewers may wish to refer to the Council on Environmental Quality regulations for implementing the procedural provisions of the National Environmental Policy Act at 40 CFR 1503.3 in addressing these points.

Responsible Official

The District Ranger of the St. Ignace and Sault Ste. Marie Ranger Districts, Hiawatha National Forest, 1798 West US-2, St. Ignace, MI 49781, is the Responsible Official. As the Responsible Official, he will decide if the proposed project will be implemented. He will document the decision and reasons for the decision in the Record of Decision.

Authority: National Environmental Policy Act of 1969 as amended (42 U.S.C. 4321-4346); Council on Environmental Quality Regulations (40 CFR Parts 1500-1508); U.S. Department of Agriculture NEPA Policies and Procedures (7 CFR Part 1b).

Dated: November 7, 2001.
Clyde Thompson,
Forest Supervisor, Hiawatha National Forest, 2727 North Lincoln Road, Escanaba, MI 49829.

[FR Doc. 01-31894 Filed 12-27-01; 8:45 am]

BILLING CODE 3410-11-U